NUCLEAR REGULATORY COMMISSION

[Docket Nos. 50-456, 50-457, 50-275, 50-323, 50-354, 50-272, 50-311, 50-254, and 50-265; NRC-2020-0110]

Issuance of Multiple Exemptions in Response to COVID-19 Public Health Emergency

AGENCY: Nuclear Regulatory Commission.

ACTION: Exemptions; issuance.

SUMMARY: The U.S. Nuclear Regulatory Commission (NRC) issued five exemptions in response to requests from three licensees. The exemptions afford these licensees temporary relief from certain requirements under NRC regulations. The exemptions are in response to the licensees' requests for relief due to the coronavirus 2019 disease (COVID-19) public health emergency (PHE). The NRC is issuing a single notice to announce the issuance of the exemptions.

DATES: During the period from March 1, 2021, to March 30, 2021, the NRC granted five exemptions in response to requests submitted by three licensees from February 4, 2021, to February 25, 2021.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

During the period from March 1, 2021, to March 30, 2021, the NRC granted five exemptions in response to requests submitted by three licensees from February 4, 2021, to February 25, 2021. These exemptions temporarily allow the licensees to deviate from certain requirements (as cited) of various parts of chapter I of title 10 of the Code of Federal Regulations (10 CFR).

The exemptions from certain requirements of 10 CFR part 26, “Fitness for Duty Programs,” for Exelon Generation Company, LLC (for Braidwood Station, Units 1 and 2; and Quad Cities Nuclear Power Station, Units 1 and 2); and for PSEG Nuclear LLC (for Hope Creek Generating Station and Salem Nuclear Generating Station, Unit Nos. 1 and 2); afford these licensees temporary relief from the work-hour control requirements under 10 CFR 26.205(d)(1) through (d)(7). The exemptions from 10 CFR 26.205(d)(1) through (d)(7) ensure that the control of work hours and management of worker fatigue does not unduly limit licensee flexibility in using personnel resources to most effectively manage the impacts of the COVID-19 PHE on maintaining the safe operation of these facilities. Specifically, these licensees have stated that their staffing levels are affected or are expected to be affected by the COVID-19 PHE, and they can no longer meet or likely will not meet the work-hour controls of 10 CFR 26.205(d)(1) through (d)(7). These licensees have committed to effecting site-specific COVID-19 PHE fatigue-management controls for personnel specified in 10 CFR 26.4(a).

The exemption from certain requirements of 10 CFR part 73, appendix B, “General Criteria for Security Personnel,” section VI, “Nuclear Power Reactor Training and Qualification Plan for Personnel Performing Security Program Duties,” for Pacific Gas and Electric Company (for Diablo Canyon Nuclear Power Plant, Units 1 and 2) ensures that these regulatory requirements do not unduly limit licensee flexibility in using personnel resources to most effectively manage the impacts of the COVID-19 PHE on maintaining the safe and secure operation of this facility and the implementation of the licensee's NRC-approved security plans, protective strategy, and implementing procedures. The licensee has committed to certain security measures to ensure response readiness and for its security personnel to maintain performance capability.

The NRC is providing compiled tables of exemptions using a single Federal Register notice for COVID-19 related exemptions instead of issuing individual Federal Register notices for each exemption. The compiled tables in this notice provide transparency regarding the number and type of exemptions the NRC has issued. Additionally, the NRC publishes tables of approved regulatory actions related to the COVID-19 PHE on its public website at https://www.nrc.gov/about-nrc/covid-19/reactors/licensing-actions.html.

II. Availability of Documents

The tables in this notice provide the facility name, docket number, document description, and ADAMS accession number for each exemption issued. Additional details on each exemption issued, including the exemption request submitted by the respective licensee and the NRC's decision, are provided in each exemption approval listed in the tables in this notice. For additional directions on accessing information in ADAMS, see the ADDRESSES section of this document.

Document description | ADAMS accession No.
Braidwood Station, Units 1 and 2
Docket Nos. 50-456 and 50-457
Braidwood Station, Units 1 and 2—COVID-19 Related Request for Exemption from part 26 Work Hours Requirements, dated February 25, 2021 | ML21056A514.
Braidwood Station, Units 1 and 2—Exemption from Specific Requirements of 10 CFR part 26 (EPID L-2021-LLE-0013 [COVID-19]), dated March 30, 2021 | ML21057A189.
Diablo Canyon Nuclear Power Plant, Units 1 and 2
Docket Nos. 50-275 and 50-323
Diablo Canyon Nuclear Power Plant, Units 1 and 2—Request for a Temporary Exemption from 10 CFR part 73, appendix B, section VI, subsection C.3.(I)(1) and subsection A.7, Regarding Annual Force-On-Force Exercises, due to Coronavirus Disease 2019 Pandemic, dated February 4, 2021 | Non-public, withheld pursuant to 10 CFR 2.390.
Diablo Canyon Nuclear Power Plant, Units 1 and 2—Exemption from Annual Force-On-Force Exercise Requirement of 10 CFR part 73, appendix B, “General Criteria for Security Personnel,” subsection A.7 (EPID L-2021-LLE-0008 [COVID-19]), dated March 3, 2021 | ML21047A255.
Hope Creek Generating Station
Docket No. 50-354
Salem Nuclear Generating Station, Unit Nos. 1 and 2
Docket Nos. 50-272 and 50-311
Hope Creek Generating Station and Salem Generating Station, Units 1 and 2—Subsequent Request for Exemption from Specific Requirements of 10 CFR part 26, “Fitness for Duty Programs,” dated February 25, 2021 | ML21056A442.
Hope Creek Generating Station and Salem Nuclear Generating Station, Unit Nos. 1 and 2—Exemption from Select Requirements of 10 CFR part 26 (EPID L-2021-LLE-0012 [COVID-19]), dated March 3, 2021 | ML21056A542.
Quad Cities Nuclear Power Station, Units 1 and 2
Docket Nos. 50-254 and 50-265
Quad Cities Nuclear Power Station, Units 1 and 2—COVID-19 Related Request for Exemption from part 26 Work Hours Requirements, dated February 17, 2021 | ML21049A051.
Quad Cities Nuclear Power Station, Units 1 and 2—Exemption from Select Requirements of 10 CFR part 26 (EPID L-2021-LLE-0010 [COVID-19]), dated March 1, 2021 | ML21050A182.

Dated: April 23, 2021.
For the Nuclear Regulatory Commission.
James G. Danna,
Chief, Plant Licensing Branch I, Division of Operating Reactor Licensing, Office of Nuclear Reactor Regulation.

[FR Doc. 2021-08877 Filed 4-27-21; 8:45 am]

BILLING CODE 7590-01-P